OFFICE OF PERSONNEL MANAGEMENT

Submission for OMB Review; Comment Request for the Elimination of OPM Optional Form 510, Applying for a Federal Job; the Revision of OPM Optional Form 612, Optional Application for Federal Employment; the Resume Builder in the USAJOBS Web Site; and the USAJOBS Web Site

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for the elimination of the optional form (OF) called Applying for a Federal Job (OF 510), the revision of the optional form called Optional Application for Federal Employment (OF 612), the specifications of the improved resume builder in the USAJOBS Web site (http://www.USAJOBS.gov), and screen shots of the web pages within the USAJOBS Web site.

OPM proposes eliminating the OF 510. The OF 510 is a brochure that has been used to provide guidance to the general public on how to apply for Federal jobs and how to construct a Federal resume (i.e., what necessary work, education, and other information applicants should include in their resumes or other applications). However, the same instructions contained in the OF 510 have been incorporated into the revised OF 612 and the USAJOBS resume builder. The instructions are also available through numerous other sources, including the USAJOBS Web site, that were not available at the time this brochure was originally created. This proposed action will eliminate the need to print, maintain, and distribute an instructional guide in hard copy format now that the information can be readily updated and delivered by leveraging current web and other automated technology.

The OF 612 is a form used to collect applicant qualifications information associated with vacancy announcements. The form provides necessary guidance to applicants so that they can be considered for employment when applying for Federal jobs. Presently the OF 612 is downloadable from OPM's electronic forms page on the USAJOBS Web site (http://www.opm.gov/forms) in fillable pdf format. The data collected are necessary for Federal agencies to evaluate applicants for Federal jobs under the authority of sections 1104, 1302, 3301, 3304, 3320, 3361, 3393, and 3394 of title 5, United States Code.

OPM has reconstructed the resume builder in the USAJOBS Web site to be in line with the data elements collected in the revised OF 612. The resume builder contains the critical elements applied across the Federal government to assess an applicant's qualifications as required under the aforementioned sections of 5 United States Code.

The OF 612 and the resume builder in the USAJOBS Web site contain questions regarding the applicant's education history, including dates of attendance, name, type and place of institution, and degrees earned. Due to the increasing number of claimed degrees earned from non-accredited or bogus institutions, commonly referred to as “diploma mills,” the revised OF 612 and the USAJOBS resume ask applicants to list only degrees from schools that were accredited by accrediting institutions recognized by the U.S. Department of Education or other education that meets the provisions of OPM's Operating Manual at www.opm.gov/qualifications/SEC-II/s2-e4.htm. The revised OF 612 and resume builder also advise applicants not to list education from degrees based solely on life experiences, or obtained from schools with little or no academic standards.

The USAJOBS Web site is the Federal Government's official one-stop source for Federal jobs and employment information. USAJOBS is operated by OPM and provides job vacancy information, employment fact sheets, job applications/forms, and on-line resume development. Job seekers may create a “My USAJOBS” account where they can create up to five resumes. These resumes are stored in one location where they can be updated, saved, or sent at any time.

The public reporting burden for the collection of the data will vary from 20 to 240 minutes, with an average of 90 minutes for both, the OF 612 and the online resume builder. This time estimate includes time for reviewing instructions, searching existing data sources, gathering data, and completing and reviewing the information.

OF 612—burden hours calculation:

Estimated number of respondents: 245,000.

Average time to complete the OF 612: 90 min. (1.5 hours). 245,000 × 1.5 = 367,500 burden hours.

Federal Resume—burden hours calculation:

Estimated number of respondents: 3,510,600.

Average time to complete the on-line resume builder: 90 min. (1.5 hours). 3,510,600 × 1.5 = 5,265,900 burden hours.

The dramatic upsurge in responses is due to expansion and acceptance of resumes in the Federal application process and the advancement of technology to provide for online application, as well as increased interest by job seekers in Federal employment as evidenced by an eightfold growth in visits to the USAJOBS Federal employment information system in FY 2004 over FY 2003. The increase in time is based on new requirements that job applicants provide accreditation information for institutions of higher education from which they have received a degree. As job applicants will need to verify their education against this new requirement, the OF-612 or Federal resume will take longer to complete than it has in the past.

As a result of the 60-day notice, OPM received one comment expressing concern about the additional burden for applicants. The reason for this extra burden was the requirement that applicants provide accreditation information for institutions of higher education from which they have received degrees. OPM has determined that this was a valid concern. Therefore, the OF 612 and the resume builder will contain specific instructions to the applicant to list only degrees from facilities that have been duly accredited by the U.S. Department of Education or other education that meets the provisions of OPM's Operating Manual at http://www.opm.gov/qualifications/SEC-II/s2-e4.htm, and not from non-accredited or bogus institutions.

For copies of this proposal, contact Mary Beth Smith-Toomey by phone at (202) 606-8358, by FAX at (202) 418-3251, or via e-mail at MaryBeth.Smith-Toomey@opm.gov. Please include a mailing address with your request.

DATES: Comments on this proposal should be received within 30 calendar days from the date of this publication.

ADDRESSES: Send or deliver comments to—

U.S. Office of Personnel Management, USAJOBS, ATTN: Mariana Pardo, U.S. Office of Personnel Management, 1900 E Street, NW, Room 2469, Washington, DC 20415

and

Brenda Aguilar, OPM Desk Officer, Office of Information & Regulatory Affairs, Office of Management and Budget, New Executive Office Building, NW., Room 10235, Washington, DC 20503.

U.S. Office of Personnel Management.
Linda M. Springer,
Director.

[FR Doc. 05-15366 Filed 8-2-05; 8:45 am]

BILLING CODE 6325-38-P